DEPARTMENT OF THE TREASURY

Customs Service

19 CFR Part 12

[T.D. 02-56]

RIN 1515-AD17

Extension of Import Restrictions Imposed on Archaeological Material From Guatemala; Correction

AGENCY: Customs Service, Treasury.

ACTION: Final rule; correction.

SUMMARY: This document contains corrections to the final rule document (T.D. 02-56) that was published in the Federal Register on September 30, 2002, concerning the extension of import restrictions on certain archaeological material from Guatemala. This document corrects two erroneous references to Mali in the final rule document.

EFFECTIVE DATE: September 29, 2002.

FOR FURTHER INFORMATION CONTACT: (Regulatory Aspects) Joseph Howard, Intellectual Property Rights Branch (202) 572-8701; (Operational Aspects) Al Morawski, Trade Operations (202) 927-0402.

SUPPLEMENTARY INFORMATION:

Background

A final rule document published as T.D. 02-56 in the Federal Register (67 FR 61259) on September 30, 2002, extended for a period of five years import restrictions that were already in place for certain archaeological material from Guatemala. The final rule amended § 12.104g(a) of the Customs Regulations (19 CFR 12.104g(a)).

In the “Summary” and “Background” sections of the final rule, references to the country “Mali” erroneously appeared. This document corrects those references to read “Guatemala.”

Corrections

In rule FR Doc. 02-24895, published on September 30, 2002, make the following corrections:

1. On page 61259, in the second column, in the “Summary” section, remove the word “Mali” in the fourth sentence and add in its place the word “Guatemala.”

2. On page 61259, in the third column, in the “Background” section, third paragraph, second sentence, remove the word “Mali” and add in its place the word “Guatemala.”

Dated: October 25, 2002.
Harold M. Singer,
Chief, Regulations Branch.

[FR Doc. 02-27660 Filed 10-30-02; 8:45 am]

BILLING CODE 4820-02-P